DEPARTMENT OF VETERANS AFFAIRS

Research and Development Office; Notice of Intent to Grant Exclusive License

AGENCY: Research and Development Office, VA.

ACTION: Notice of Intent.

SUMMARY: Notice is hereby given that the Department of Veterans Affairs Research and Development Office intends to grant to TransMedics, Inc., a Delaware corporation having a principal place of business in Woburn, Massachusetts, U.S.A., an exclusive license to U.S. Patent Numbers: 6,046,046, issued April 4, 2000, entitled Compositions, Methods and Devices for Maintaining an Organ; and 6,100,082, issued August 8, 2000, entitled Perfusion Apparatus and Method Including Chemical Compositions for Maintaining an Organ.

DATES: Comments must be received within fifteen (15) days from the date of this published Notice.

ADDRESSES: Send comments to: Mindy Aisen, M.D., Director of Technology Transfer, Department of Veterans Affairs, 810 Vermont Avenue NW., Washington, DC 20420. Telephone: (202) 408-3670; Facsimile: (202) 275-7228; e-mail: mindy.aisen@mail.va.gov.

FOR FURTHER INFORMATION CONTACT: Copies of the issued patents may be obtained from the U.S. Patent and Trademark Office at http://www.uspto.gov.

SUPPLEMENTARY INFORMATION: It is in the public interest to so license these inventions as TransMedics, Inc. submitted a complete and sufficient application for a license. The prospective exclusive license will be royalty-bearing and will comply with the terms and conditions of 35 U.S.C. 209 and 37 CFR 404.7. The prospective exclusive license may be granted unless, within fifteen (15) days from the date of this published Notice, the Department of Veterans Affairs Research and Development Office receives written evidence and argument which establishes that the grant of the license would not be consistent with the requirements of 35 U.S.C. 209 and 37 CFR 404.7.

Dated: July 29, 2002.
Anthony J. Principi,
Secretary of Veterans Affairs.

[FR Doc. 02-19646 Filed 8-2-02; 8:45 am]

BILLING CODE 8320-01-P